DEPARTMENT OF COMMERCE

National Oceanic and Atmospheric Administration

Evaluations of National Estuarine Research Reserves

AGENCY: Office for Coastal Management (OCM), National Ocean Service (NOS), National Oceanic and Atmospheric Administration (NOAA), Department of Commerce (DOC).

ACTION: Notice.

SUMMARY: The National Oceanic and Atmospheric Administration (NOAA), Office for Coastal Management will hold public meetings to solicit comments for the performance evaluation of the Wells National Estuarine Research Reserve.

DATES: Wells National Estuarine Research Reserve Evaluation: The public meeting will be held on Tuesday, May 23, 2017, and written comments must be received on or before Friday, June 2, 2017.

For specific dates, times, and locations of the public meetings, see SUPPLEMENTARY INFORMATION.

ADDRESSES: You may submit comments on the reserves and coastal program NOAA intends to evaluate by any of the following methods:

Public Meeting and Oral Comments: A public meeting will be held in Wells, Maine for the Wells Reserve. For the specific location, see SUPPLEMENTARY INFORMATION.

Written Comments: Please direct written comments to Pam Kylstra, Training and Engagement Program, Office for Coastal Management, 2234 S. Hobson Avenue, Charleston SC 29405, or email comments Pam.Kylstra@noaa.gov.

FOR FURTHER INFORMATION CONTACT: Pam Kylstra, Evaluator, Policy, Planning and Communications, Office for Coastal Management, 2234 S Hobson Avenue, Charleston SC 29405, or Pam.Kylstra@noaa.gov. Copies of the most recent performance report, previous evaluation findings, Management Plan, and Site Profile may be viewed and downloaded on the Internet at http://coast.noaa.gov/czm/evaluations. A copy of the evaluation notification letter may be obtained upon request by contacting the person identified under FOR FURTHER INFORMATION CONTACT.

SUPPLEMENTARY INFORMATION: Sections 312 and 315 of the Coastal Zone Management Act (CZMA) require NOAA to conduct periodic evaluations of federally approved national estuarine research reserves. The process includes a public meeting, consideration of written public comments and consultations with interested Federal, state, and local agencies and members of the public. For the evaluation of National Estuarine Research Reserves, NOAA will consider the extent to which the state has met the national objectives, adhered to its management plan approved by the Secretary of Commerce, and adhered to the terms of financial assistance under the Coastal Zone Management Act. When the evaluation is completed, NOAA's Office for Coastal Management will place a notice in the Federal Register announcing the availability of the Final Evaluation Findings.

Specific information on the periodic evaluation of reserves that are the subject of this notice are detailed below as follows:

Wells National Estuarine Research Reserve Evaluation

You may participate or submit oral comments at the public meeting scheduled as follows:

Date: May 23, 2017.

Time: 5:00 p.m., local time.

Location: The Mather Auditorium, Wells Reserve, 342 Laudholm Farm Road, Wells, Maine 04090.

Written comments must be received on or before June 2, 2017.

Dated: March 17, 2017.
Jeffrey L. Payne,
Director, Office for Coastal Management, National Ocean Service, National Oceanic and Atmospheric Administration.

Federal Domestic Assistance Catalog 11.419 Coastal Zone Management Program Administration

[FR Doc. 2017-07346 Filed 4-11-17; 8:45 am]

BILLING CODE 3510-08-P